U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

Name: C. Richard D'Amato, Chairman of the U.S.-China Economic and Security Review Commission.

The Commission is mandated by Congress to investigate, assess, evaluate and report to Congress annually on “the national security implications of the bilateral trade and economic relationship between the United States and the People's Republic of China.” Pursuant to this mandate, the Commission will be holding a public hearing in Washington, DC on December 8, 2005.

Background

This event is the first in a series of public hearings the Commission will hold during its 2005-2006 report cycle to collect input from leading experts in academia, business, industry, government and the public on the impact of U.S-China trade and economic relations. The December 8 hearing is being conducted to secure commentary about issues connected to the Hong Kong Ministerial Conference of the Doha Round of the World Trade Organization's trade expansion negotiations that will occur on December 13-18, 2005. Information on upcoming hearings, as well as transcripts of past Commission hearings, can be obtained from the USCC Web site http://www.uscc.gov.

The December 8 hearing will be co-chaired by Commissioners George Becker of Pittsburgh and Professor June Teufel Dreyer of The University of Miami.

Purpose of Hearing

The hearing is designed to assist the Commission in fulfilling its mandate by examining the issues to be addressed at the Hong Kong Ministerial Conference of the Doha Round of the World Trade Organization's Trade Expansion Negotiations. Invited witnesses include international trade law experts, administration officials, and labor and industry representatives.

The hearing will focus on the process whereby U.S. trade objectives are determined and pursued. It will also address the results of the U.S. trade policies toward China, discuss the results of the Doha Round of WTO negotiations, and provide an assessment of the Administration's fulfillment of Congressional objects as defined under the Trade Promotion Authority.

Copies of the hearing agenda will be made available on the Commission's Web site at http://www.uscc.gov. Any interested party may file a written statement by December 8, 2005, by mailing to the contact below.

Date and Time: Thursday, December 8, 2005, 9 a.m. to 12 p.m. eastern standard time inclusive. A detailed agenda for the hearing will be posted to the Commission's Web site at http://www.uscc.gov in the near future.

ADDRESSES: The hearing will be held in the Capitol Hill complex, Washington, DC, in a hearing room to be announced. Public Seating is limited to about 70 people on a first come, first served basis.

FOR FURTHER INFORMATION CONTACT: Any member of the public wishing further information concerning the hearing should contact Kathy Michels, Associate Director for the U.S.-China Economic and Security Review Commission, 444 North Capitol Street, NW., Suite 602, Washington, DC 20001; phone 202-624-1409, or via e-mail at kmichels@uscc.gov.

Authority: The Commission was established in October 2000 pursuant to the Floyd D. Spence National Defense Authorization Act Section 1238, Pub. L. 106-398, 114 STAT. 1654A-334 (2000) (codified at 22 U.S.C. Section 7002 (2001), as amended, and the “Consolidated Appropriations Resolution of 2003,” Pub. L. No. 108-7 dated February 20, 2003.

Dated: November 23, 2005.
Kathleen J. Michels,
Associate Director, U.S.-China Economic and Security Review Commission.

[FR Doc. 05-23494 Filed 11-29-05; 8:45 am]

BILLING CODE 1137-00-P